Proclamation 10333 of December 30, 2021

National Stalking Awareness Month, 2022

By the President of the United States of America

A Proclamation

All people deserve to feel safe and protected—whether in their home, at work or school, online, or in any other public or private spaces. During National Stalking Awareness Month, we support all those who are threatened and harmed by the pervasive crime of stalking, recognize those who raise awareness and advocate for survivors, and recommit to eradicating stalking nationwide.

Stalkers employ multiple tactics to instill fear, intimidate, surveil, and exert control over the people they target. Studies show that 1 in 6 women and 1 in 17 men have been subjected to stalking in their lifetime, the majority of whom were threatened by someone they know—often a current or former intimate partner. Survivors often suffer physical, psychological, and social harms, such as higher than average rates of depression, anxiety, and insomnia. Stalking also can take a serious economic toll, as those who are stalked may have to uproot their lives at their own expense to evade their stalkers, or take unpaid time off from work in order to protect themselves and their families.

In recent years, the most prevalent form of stalking crimes has involved the use of smartphones, computers, and other devices. With schools, workplaces, and social interactions relying on virtual platforms, the risk of stalking has grown considerably. As technology continues to advance, we must ensure that all people—especially women, girls, and LGBTQI+ individuals who are at greatest risk—can engage in online spaces freely and safely. We must also seek accountability for individuals or systems that perpetrate or enable stalking.

Given the disproportionate impact of stalking and other forms of digital abuse on women and girls, my Administration's National Strategy on Gender Equity and Equality includes a commitment to launch a task force to address online harassment and abuse. This task force will be specifically focused on technology-facilitated, gender-based violence and will be charged with developing concrete recommendations to improve prevention, response, and protection efforts domestically and worldwide.

The task force will seek input from survivors, advocates, law enforcement professionals, civil and human rights groups, technology platforms, and other experts to ensure that those with expertise and lived experiences are able to directly inform these recommendations. My Administration has also committed to developing the first-ever National Action Plan to End Gender-Based Violence, which will further our efforts to prevent and respond to stalking and other forms of gender-based violence.

This effort has been one of the central causes of my career. To address these abuses of power—stalking, domestic violence, dating violence, and sexual assault—I wrote and championed the Violence Against Women Act nearly three decades ago to begin to change our culture and ensure that survivors of these appalling crimes receive the services and support they need. Through the years, I have worked to reauthorize the Act several times—each time expanding its protections. Now, I am calling on the Congress to once again reauthorize and modernize this landmark legislation with enhanced provisions to expand the way our country responds to and prevents stalking and other forms of gender-based violence.

Stalking operates in the shadows and is fueled by silence and inaction. As we begin this new year, let us commit to shining a brighter light on this insidious crime, to broadening our support for those affected, and to ensuring that all people can live in a world free from violence and fear.

NOW, THEREFORE, I, JOSEPH R. BIDEN JR., President of the United States of America, by virtue of the authority vested in me by the Constitution and the laws of the United States, do hereby proclaim January 2022 as National Stalking Awareness Month. I call on all Americans to speak out against stalking and to support the efforts of advocates, courts, service providers, and law enforcement to help those who are targeted and send the message to perpetrators that this crime will not go unpunished.

IN WITNESS WHEREOF, I have hereunto set my hand this thirtieth day of December, in the year of our Lord two thousand twenty-one, and of the Independence of the United States of America the two hundred and forty-sixth.

[FR Doc. 2022-00169

Filed 1-5-22; 11:15 am]

Billing code 3395-F2-P